DEPARTMENT OF HOMELAND SECURITY

Coast Guard

[USCG-2017-0897]

International Standards Pertaining to Maintenance, Repair, and Training of Servicing Technicians for Lifeboats, Rescue Boats, Launching Appliances, and Release Gear

AGENCY: Coast Guard, DHS.

ACTION: Notice of public meeting; request for comments.

SUMMARY: The United States Coast Guard (USCG) will hold a public town hall meeting to disseminate information related to the 2020 entry into force of international standards affecting the testing and maintenance of lifeboats, rescue boats, and launching appliances, and authorization of service providers. The International Maritime Organization (IMO) in 2016 adopted amendments to the International Convention for the Safety of Life at Sea, 1974, as amended, (SOLAS) which contain new requirements related to maintenance of lifesaving equipment on vessels subject to SOLAS. The purpose of the public town hall meeting is to provide an opportunity for the public to obtain information and ask questions related to these new requirements and their implementation in the United States.

DATES: The public town hall meeting will be held on December 11, 2017, from 10 a.m. to 12 p.m.

Deadline for Registration To Attend the Meeting: Attendees must pre-register. Registration, and any requests for special accommodations, must be received no later than 5:00 p.m. on December 4, 2017.

Deadline for Submission of Comments: Comments must be submitted before 5:00 p.m. on December 18, 2017.

ADDRESSES:

Meeting Location: The town hall meeting will be held at the Department of Transportation Headquarters, 1200 New Jersey Ave. SE., Washington, DC 20590; Metro: Navy Yard station. In addition, we are providing an alternative to attending the meeting in person—the public may listen to the meeting via audio conference. Information on that option is provided in section III, D of the SUPPLEMENTAL INFORMATION portion of this notice. Any Coast Guard materials presented at the meeting will be posted to the public docket, which is accessible at http://www.regulations.gov by searching for docket USCG-2017-0897.

Registration and Special Accommodations: While there is no registration fee, individuals planning to attend the public town hall meeting in person must register to attend. Register by calling or emailing the person in the FOR FURTHER INFORMATION CONTACT section of this notice. Non-US citizens/Foreign Nationals will be required to submit name, official title, date of birth, country of citizenship, passport number, and passport expiration date no later than one (1) week prior to the meeting. Registration to attend the town hall meeting will be accepted on a first-come, first-served basis. If seating capacity has been reached, you will be notified that the meeting has reached capacity.

Individuals who need special accommodations should contact staff listed in the FOR FURTHER INFORMATION CONTACT section of this notice.

Written Comments: You may submit comments identified by docket number USCG-2017-0897 using the federal eRulemaking Portal at http://www.regulations.gov. See the “Public Participation and Request for Comments” portion of the Supplementary Information section for further instructions on submitting comments. If you encounter technical difficulties with comments submission, contact the individual listed in the FOR FURTHER INFORMATION CONTACT section below. The deadline for submission of comments is 5:00 p.m. on December 18, 2017.

FOR FURTHER INFORMATION CONTACT: If you have questions concerning IMO Resolutions MSC.402(96) and MSC.404(96) or this meeting notice, please contact Ms. Stephanie Groleau, Commandant (CG-ENG-4), phone 202-372-1381; fax 202-372-8380; email stephanie.m.groleau@uscg.mil.

SUPPLEMENTARY INFORMATION:

I. Background on 2016 SOLAS Amendments

After several casualties involving lifeboats, IMO developed guidelines for periodic servicing and maintenance of lifeboats, launching appliances and on-load release gear (MSC.1/Circ.1206/Rev.1) and accompanying guidelines with interim recommendations on conditions for authorization of service providers (MSC.1/Circ.1277). The USCG released the Navigation and Vessel Inspection Circular (NVIC) 04-07 “Servicing and Maintenance of lifeboats, launching appliances and on-load release gear” to provide guidance to US flag vessels subject to SOLAS. Subsequently, the Contracting Governments to SOLAS agreed to adopt mandatory requirements for servicing and service providers through IMO Resolution MSC.402(96), implemented by amendments to SOLAS Chapter III by Resolution MSC.404(96).

These SOLAS amendments enter into force on January 1, 2020. After that date, we expect that U.S. flag vessels subject to SOLAS could be subject to detention in foreign ports if their lifeboat service records do not comply with SOLAS Chapter III as amended.

The key substantive requirements are:

• That maintenance, thorough examination, operational testing, overhaul and repair on board its ships is conducted in accordance with relevant regulations in SOLAS Chapter III.

• Administrations (i.e. USCG) shall ensure that the thorough examination, operational testing, repair and overhaul of equipment shall be carried out in accordance with SOLAS regulation III/20 by authorizing service providers.

• That personnel carrying out maintenance, thorough examination, operational testing overhaul and repair as described above shall be certified by an authorized service provider.

II. Public Town Hall Meeting

A. Purpose of the Meeting

The public town hall meeting is intended to provide an opportunity for the public to obtain information related to the SOLAS Chapter III amendments, and create a setting for dialogue among USCG and stakeholders to discuss implementation of these obligations in the early stages of program consideration.

Public comments may be submitted electronically in accordance with Section III of the Supplementary Information. Public comments will be used as supplement to the dialogue at the meeting.

B. Format of the Town Hall Meeting

A panel of USCG officials will make a brief presentation on the SOLAS amendments, and take questions for 30 minutes. Other USCG officials will be available for informal discussion before and after the panel.

C. Security and Building Guidelines

Because the public town hall meeting will be located on federal property, for security reasons, any persons wishing to attend this meeting must register by the date specified in the DATES section of this notice. Please allow sufficient time to go through the security checkpoints. It is suggested that you arrive at the Department of Transportation Headquarters Building no later than 9:30 a.m. if you are attending the public meeting.

Security measures include the following:

• Presentation of government-issued photographic identification to the security personnel.

• Passing through a metal detector and inspection of items brought into the building. All items brought to the facility are subject to inspection.

Note: Individuals who are not registered in advance will not be permitted to enter the building and will be unable to attend the meeting in person. The public may not enter the building earlier than 45 minutes prior to the convening of the meeting. All visitors must be escorted while in the building.

D. Audio Information

Information on the option to listen live to the meeting will be available by request. Individuals who wish to listen to the meeting via audio conference should contact staff listed in the FOR FURTHER INFORMATION CONTACT section of this notice. The required information will be provided to all requestors on December 4, 2017.

III. Public Participation and Request for Comments

We value public participation and will consider all comments and material received during the comment period. If you submit a comment, please include the docket number for this notice, indicate the specific portion of the SOLAS amendments, IMO Resolutions MSC.402(96), MSC.404(96), or related guidelines to which each comment applies, and provide a reason for each suggestion or recommendation.

We encourage you to submit comments through http://www.regualtions.gov. If our material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulationms.gov/privacynotice.

All public comments and supplemental information will be in our online docket at http://www.regulations.gov and can be viewed by following that Web site's instructions. Additionally, if you go to the online docket and sign up for email alerts, you will be notified when comments or supplemental information is made available.

Dated: November 16, 2017.
J.G. Lantz,
Director, Commercial Regulations and Standards, U.S. Coast Guard.

[FR Doc. 2017-25225 Filed 11-21-17; 8:45 am]

BILLING CODE 9110-04-P